DEPARTMENT OF JUSTICE

Notice of Lodging of Consent Decree Pursuant to the Clean Air Act

Notice is hereby given that on June 16, 2005, a proposed consent decree in United States v. Morton Int'l, Inc., Civil Action No. 05-3088 (DMC), was lodged with the United States District Court for the District of New Jersey.

The proposed consent decree will settle the United States' claims for failure to comply with the general duty clause of the Clean Air Act, 42 U.S.C. 7412(r)(l), on behalf of the Environmental Protection Agency (“EPA”) against Morton International, Inc. (“Morton”), relating to its violations of regulations applicable at its former facility in Patterson, New Jersey, which occurred through April 1998. Pursuant to the proposed consent decree, Morton will pay $50,000.00 as a civil penalty and complete a Supplemental Environmental Project (“SEP”) of up to $200,000.00 by supplying Passaic County Department of Health with equipment that is useful in identifying potentially dangerous circumstances and in responding thereto. Should the SEP cost less than $200,000, the difference between that amount and the actual cost of SEP will be paid as an additional civil penalty.

The Department of Justice will receive for a period of thirty (30) days from the date of this publication accept comments relating to the proposed consent decree. Comments should be addressed to the Assistant Attorney General of the Environmental and Natural Resources Division, Department of Justice, Washington, DC 20530, and should refer to United States v. Morton Int'l, Inc., Civil Action No. 05-3088 (DMC), D.J. Ref. 90-5-2-1-07513.

The proposed consent decree may be examined at the Office of the United States Attorney, District of New Jersey, 970 Broad Street, Newark, New Jersey 07102. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree, please so note and enclose a check in the amount of $5.75 (25 cents per page reproduction cost) payable to the U.S. Treasury.

Ronald Gluck,
Assistant Chief, Environmental Enforcement Section, Environmental and Natural Resources Division.

[FR Doc. 05-13386 Filed 7-6-05; 8:45 am]

BILLING CODE 4410-15-M